DEPARTMENT OF DEFENSE

Office of the Secretary

Scoping Comment Period Extension for the Notice of Intent To Prepare an Environmental Impact Statement for an Enhanced Integrated Air and Missile Defense System on Guam

AGENCY: Missile Defense Agency (MDA), Department of Defense (DoD).

ACTION: Notice of intent; extension of comment period.

SUMMARY: The MDA is extending the scoping comment period for the notice of intent titled “Notice of Intent to Prepare an Environmental Impact Statement for an Enhanced Integrated Air and Missile Defense System on Guam,” which published in the Federal Register on May 5, 2023. The MDA is extending the scoping period to August 18, 2023, in response to on-going Typhoon Mawar-related recovery efforts on Guam.

DATES: The scoping comment period for the notice of intent published in the Federal Register on May 5, 2023 (88 FR 29104) is extended. Comments must be postmarked or received on or before August 18, 2023, to ensure consideration in the Draft Environmental Impact Statement (EIS).

ADDRESSES: Written comments should be sent via email to info@EIAMD-EIS.com; via the website comment submission form on www.EIAMD-EIS.com; or by United States (U.S.) Postal Service to: ManTech International Corporation, Attention: EIAMD EIS Project Support, PMB 403, 1270 N. Marine Corps Drive, Suite 101, Tamuning, Guam 96913-4331. Written comments will also be accepted at the public scoping meetings. All comments, including names and addresses, will be included in the administrative record, but personal information will be kept confidential unless release is required by law.

FOR FURTHER INFORMATION CONTACT: Mr. Mark Wright, MDA Public Affairs, at 571-231-8212 or by email to mda.info@mda.mil. Additional information on the Proposed Action can be found at the MDA website: https://www.mda.mil/system/eiamd.html.

SUPPLEMENTARY INFORMATION: On May 5, 2023, the MDA published a notice of intent titled “Notice of Intent to Prepare an Environmental Impact Statement for an Enhanced Integrated Air and Missile Defense System on Guam” (88 FR 29104). On June 9, 2023, the MDA published an extension of the comment period titled “Scoping Comment Period Extension for the Notice of Intent to Prepare an Environmental Impact Statement for an Enhanced Integrated Air and Missile Defense System on Guam” (88 FR 37870) in response to Typhoon Mawar-related damage and recovery efforts on Guam. The first extended scoping comment period was scheduled to close on August 11, 2023, with in-person open house scoping meetings planned on Guam in summer 2023.

With this notice, the MDA is extending the scoping comment period to August 18, 2023, in response to on-going Typhoon Mawar-related recovery efforts on Guam. The MDA will conduct in-person open house scoping meetings on Guam on August 2-4, 2023, from 4:00 p.m. to 7:00 p.m. Chamorro Standard Time (ChST). Notification for the meeting locations, dates, and times will be published and announced in local news media to encourage public participation. Access to meeting information can also be found on the MDA website at https://www.mda.mil/system/eiamd.html.

Dated: July 13, 2023.
Aaron T. Siegel,
Alternate OSD Federal Register Liaison Officer, Department of Defense.

[FR Doc. 2023-15238 Filed 7-20-23; 8:45 am]

BILLING CODE 5001-06-P